DEPARTMENT OF HOMELAND SECURITY

Federal Emergency Management Agency

44 CFR Part 67

[Docket No. FEMA-D-7686]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) +Elevation in feet (NAVD): Existing | #Depth in feet above ground. *Elevation in feet (NGVD) +Elevation in feet (NAVD): Modified
Martin County, North Carolina (Unincorporated Areas)
North Carolina | Martin County (Unincorporated Areas) | Peter Swamp | At the confluence with Sweetwater Creek Approximately 0.5 mile upstream of Railroad. | +10 None | +11 +20
|  | Peter Swamp Tributary | At the confluence with Peter Swamp. Approximately 1,200 feet upstream of the confluence with Peter Swamp. | None None | +17 +22
*National Geodetic Vertical Datum.
#Depth in feet above ground.
+North American Vertical Datum.
ADDRESSES
Martin County (Unincorporated Areas)
Maps are available for inspection at the Martin County Government Center, Building Inspections Department, 305 East Main Street, Williamston, North Carolina.
Send comments to Mr. Russell Overman, Martin County Manager, P.O. Box 668, Williamston, North Carolina 27892.

Flooding source(s) | Location of referenced elevation | * Elevation in feet (NGVD) + Elevation in feet (NAVD) # Depth in feet above ground: Effective | * Elevation in feet (NGVD) + Elevation in feet (NAVD) # Depth in feet above ground: Modified | Communities affected
Hillsborough County, Florida and Incorporated Areas
Alderman Creek | At the confluence with Little Manatee River | None | +82 | Hillsborough County (Unincorporated Areas).
| Approximately 2.4 miles upstream of Taylor Grill Road | None | +123 |
Archie Creek | Approximately 200 feet downstream of 78th Street South | None | +11 | Hillsborough County (Unincorporated Areas).
| Approximately 0.4 mile upstream of Interstate 75 | None | +20 |
Baker Canal | At the confluence with Lake Thonotosassa Tributary and Baker Creek | +43 | +44 | Hillsborough County (Unincorporated Areas).
| Approximately 150 feet downstream of Acker Road | None | +84 |
Baker Canal:
Tributary 1 | At the confluence with Baker Canal | None | +44 | Hillsborough County (Unincorporated Areas).
| At Taylor Road | None | +44 |
Tributary 2 | At the confluence with Baker Canal | None | +44 | Hillsborough County (Unincorporated Areas).
| Approximately 0.5 mile upstream of Gallagher Road | None | +64 |
Tributary 3 | At the confluence with Baker Canal | None | +44 | Hillsborough County (Unincorporated Areas).
| Approximately 1,100 feet upstream of U.S. Highway 92 | None | +57 |
Tributary 5 | At the confluence with Baker Canal | None | +44 | Hillsborough County (Unincorporated Areas).
| At the upstream side of McIntosh Road | None | +57 |
Tributary 6 | At the confluence with Baker Canal | None | +46 | Hillsborough County (Unincorporated Areas).
| At the downstream side of McIntosh Road | None | +57 |
Tributary 7 | At the confluence with Baker Canal | None | +73 | Hillsborough County (Unincorporated Areas).
| Approximately 0.6 mile upstream of Shady Stream Drive | None | +83 |
Tributary 8 | At the confluence with Baker Canal | None | +76 | Hillsborough County (Unincorporated Areas).
| Approximately 0.7 mile upstream of Walden Sheffield Road | None | +96 |
Baker/Pemberton Creek:
Tributary 1 | At the confluence with Baker Creek and Pemberton Creek | +51 | +56 | Hillsborough County (Unincorporated Areas).
| Approximately 0.9 mile upstream of Emerald Acres | None | +72 |
Tributary 2 | At the confluence with Baker/Pemberton Creek Tributary 1 | None | +56 | Hillsborough County (Unincorporated Areas).
| Approximately 0.7 mile upstream of the confluence with Baker/Pemberton Creek Tributary 1 | None | +60 |
Baker/Pemberton/Mill Creek | At the confluence with Baker Canal and Lake Thonotosassa Tributary | +43 | +44 | Hillsborough County (Unincorporated Areas), City of Plant City.
| Approximately 200 feet upstream of North Wheeler Street | None | +115 |
Bassett Branch | At the confluence with Hillsborough River | +39 | +37 | Hillsborough County (Unincorporated Areas), City of Tampa.
| At the Hillsborough County boundary | None | +63 |
Big Bend | At the confluence with Bullfrog Creek | None | +31 | Hillsborough County (Unincorporated Areas).
| Approximately 0.8 mile upstream of Simmons Loop | None | +52 |
Blackwater Creek | At the confluence with Hillsborough River | +50 | +49 | Hillsborough County (Unincorporated Areas).
| Approximately 0.9 mile upstream of Canaan Avenue | +110 | +109 |
Brooker Creek | At the Hillsborough County boundary | +29 | +27 | Hillsborough County (Unincorporated Areas).
| At Farmer Road | +40 | +39 |
Brushy Creek | At the confluence with Rocky Creek | +26 | +25 | Hillsborough County (Unincorporated Areas).
| Approximately 1,350 feet upstream of Dale Marby Highway North | None | +54 |
Brushy Creek Branch 2 | At the confluence with Brushy Creek | +35 | +39 | Hillsborough County (Unincorporated Areas).
| Approximately 30 feet upstream of Hutchison Road | None | +51 |
Brushy Creek Tributary 1 | At the confluence with Brushy Creek | +48 | +47 | Hillsborough County (Unincorporated Areas).
| Approximately 50 feet upstream of Country Lake Drive | None | +51 |
Bullfrog Creek | Approximately 1.4 miles upstream of the railroad | +10 | +11 | Hillsborough County (Unincorporated Areas).
| Approximately 0.7 mile upstream of Edina Street | None | +92 |
Bullfrog Creek:
Tributary 1 | At the confluence with Bullfrog Creek | +31 | +26 | Hillsborough County (Unincorporated Areas).
| Approximately 50 feet upstream of Lincoln Road | None | +43 |
Tributary 2 | At the confluence with Bullfrog Creek | None | +58 | Hillsborough County (Unincorporated Areas).
| Approximately 0.4 mile upstream of West Lake Drive | None | +67 |
Tributary 3 | At the confluence with Bullfrog Creek | None | +64 | Hillsborough County (Unincorporated Areas).
| Approximately 40 feet upstream of County Road 672 | None | +130 |
Campbell Branch | At the confluence with Flint Creek | +39 | +38 | Hillsborough County (Unincorporated Areas).
| Approximately 1,500 feet downstream of Branch Forbes Road | +89 | +90 |
Campbell Branch Tributary 1 | At the confluence with Campbell Branch | +44 | +50 | Hillsborough County (Unincorporated Areas).
| Approximately 50 feet downstream of Thonotosassa Road | None | +52 |
Carlton Branch | At the confluence with Little Manatee River | +44 | +46 | Hillsborough County (Unincorporated Areas).
| Approximately 0.3 mile upstream of Huckleberry Road | None | +118 |
Carlton Branch:
Tributary 1 | At the confluence with Carlton Branch | None | +60 | Hillsborough County (Unincorporated Areas).
| Approximately 50 feet upstream of Leonard Lee Road | None | +92 |
Tributary 2 | At the confluence with Carlton Branch | None | +69 | Hillsborough County (Unincorporated Areas).
| Approximately 0.5 mile upstream of Balm Wimauma Road | None | +116 |
Tributary 3 | At the confluence with Carlton Branch | None | +88 | Hillsborough County (Unincorporated Areas).
| Approximately 25 feet upstream of Sweat Loop Road | None | +114 |
Tributary 3.1 | At the confluence with Carlton Branch Tributary 3 | None | +89 | Hillsborough County (Unincorporated Areas).
| Approximately 50 feet upstream of Balm Wimauma Road | None | +108 |
Clay Gulley East | At the confluence with Hillsborough River | +40 | +36 | Hillsborough County (Unincorporated Areas).
| At Dormany Road | None | +73 |
Clay Gulley East:
Tributary 2 | At the confluence with Clay Gulley East | None | +58 | Hillsborough County (Unincorporated Areas).
| At Five Acre Road | None | +60 |
Tributary 4 | At the confluence with Clay Gulley East Tributary 6 | None | +48 | Hillsborough County (Unincorporated Areas).
| Approximately 50 feet upstream of Five Acre Road | None | +58 |
Tributary 5 | At the confluence with Clay Gulley East | None | +45 | Hillsborough County (Unincorporated Areas).
| Approximately 50 feet upstream of Brunt Barn Avenue | None | +68 |
Tributary 6 | At the confluence with Clay Gulley East | None | +45 | Hillsborough County (Unincorporated Areas).
| Approximately 0.9 miles upstream of the confluence with Clay Gulley East Tributary 4 | None | +62 |
Tributary 7 | At the confluence with Clay Gulley East | None | +45 | Hillsborough County (Unincorporated Areas).
| Approximately 450 feet upstream of Warren Byrd Lane | None | +49 |
Tributary 8 | At the confluence with Clay Gulley East | None | +67 | Hillsborough County (Unincorporated Areas).
| Approximately 0.7 mile upstream of the confluence with Clay Gulley East | None | +72 |
Clay Gulley West | At the confluence with Hillsborough River | +38 | +35 | Hillsborough County (Unincorporated Areas), City of Tampa.
| At the Hillsborough County Boundary | None | +59 |
Cow House Creek | At the confluence with Hillsborough River | +28 | +27 | Hillsborough County (Unincorporated Areas), City of Temple Terrace.
| Approximately 2.7 miles upstream of the confluence of Tampa Bypass Canal | +38 | +35 |
Curiosity Creek | At the confluence with Little Manatee River | +10 | +9 | Hillsborough County (Unincorporated Areas).
| Approximately 1.2 miles upstream of Lightfoot Road | None | +17 |
Curiosity Creek (near City of Tampa) | Approximately 100 feet upstream of Fowler Avenue | +31 | +32 | Hillsborough County (Unincorporated Areas).
| Approximately 500 feet upstream of West Bearss Avenue | None | +48 |
Curiosity Creek:
Tributary 1 | At the confluence with Curiosity Creek | +10 | +11 | Hillsborough County (Unincorporated Areas).
| Approximately 50 feet upstream of Pinetree Circle | None | +16 |
Tributary 1.1 | At the confluence with Curiosity Creek Tributary 1 | +10 | +15 | Hillsborough County (Unincorporated Areas).
| Approximately 0.7 mile upstream of Butch Cassidy Trail | None | +18 |
Cypress Creek | At the confluence with Little Manatee River | +16 | +14 | Hillsborough County (Unincorporated Areas).
| Approximately 50 feet upstream of 19th Avenue NE | None | +39 |
Cypress Creek (near City of Tampa) | At the confluence with Hillsborough River | +29 | +27 | Hillsborough County (Unincorporated Areas), City of Tampa.
| Approximately 0.7 mile downstream of County Line Road | +47 | +46 |
Delaney Creek | Approximately 1,000 feet downstream of Maydell Drive | +12 | +11 | Hillsborough County (Unincorporated Areas).
| Approximately 1,500 feet upstream of Lakewood Drive South | +30 | +31 |
Delaney Creek:
Lateral C | At the confluence with Delaney Creek | +21 | +19 | Hillsborough County (Unincorporated Areas).
| Approximately 20 feet upstream of Rideout Road | None | +24
Lateral D | At the confluence with Delaney Creek | +22 | +20 | Hillsborough County (Unincorporated Areas).
| Approximately 700 feet upstream of Ridein Road | None | +23
Lateral E | At the confluence with Delaney Creek | +26 | +28 | Hillsborough County (Unincorporated Areas).
| Approximately 800 feet upstream of Palm River Road | None | +28
Tributary 1 | At the upstream side of Causeway Boulevard | None | +11 | Hillsborough County (Unincorporated Areas).
| Approximately 50 feet upstream of Maydell Drive | None | +12
Tributary 2 | At the confluence with Delaney Creek | +19 | +17 | Hillsborough County (Unincorporated Areas).
| Approximately 900 feet upstream of Robindale Road | None | +20
Dug Creek | At the confluence with Little Manatee River | +21 | +18 | Hillsborough County (Unincorporated Areas).
| Approximately 0.2 mile upstream of State Road 674/Sun City Center Boulevard | None | +69
Dug Creek:
Tributary 1 | At the confluence with Dug Creek | +21 | +20 | Hillsborough County (Unincorporated Areas).
| Approximately 0.4 mile upstream of Ed Lane | None | +47
Tributary 2 | At the confluence with Dug Creek | None | +32 | Hillsborough County (Unincorporated Areas).
| Approximately 0.2 mile upstream of West Lake Drive | None | +69
Tributary 3 | At the confluence with Dug Creek | None | +60 | Hillsborough County (Unincorporated Areas).
| Approximately 50 feet upstream of West Lake Drive | None | +84
East Canal | At the confluence with Itchepackesassa Creek | +98 | +96 | Hillsborough County (Unincorporated Areas), City of Plant City.
| At the downstream side of Frontage Road | None | +114
East Canal Tributary | At the confluence with East Canal | None | +119 | City of Plant City.
| Approximately 700 feet upstream of Crystal Terrace | None | +133
East Canal Upstream of Frontage Road | At the upstream side of Frontage Road | None | +118 | City of Plant City.
| Approximately 15 feet upstream of Alsobrook Street | None | +127
Flint Creek | At the confluence with Hillsborough River | +38 | +35 | Hillsborough County (Unincorporated Areas).
| Approximately 160 feet downstream of Kelso Road | +39 | +38
Gulley Branch | At the confluence with Little Manatee River | +38 | +39 | Hillsborough County (Unincorporated Areas).
| Approximately 2.5 miles upstream of the confluence with Little Manatee River | None | +94
Half Moon Lake Branch | At the confluence with Rocky Creek | +36 | +33 | Hillsborough County (Unincorporated Areas).
| Approximately 50 feet downstream of Vanderbilt Drive | None | +43
Hillsborough Bay | Areas within MacDill Air Force Base | None | +10 | Hillsborough County (Unincorporated Areas), City of Tampa.
Hillsborough River | Approximately 500 feet downstream of Temple Terrace | +24 | +23 | Hillsborough County (Unincorporated Areas), City of Tampa, City of Temple Terrace.
| Approximately 700 feet upstream of the confluence of Big Ditch Creek | +57 | +52
Hollomans Branch | At the confluence with Hillsborough River | +38 | +35 | Hillsborough County (Unincorporated Areas).
| Approximately 0.7 mile upstream of West Knights Griffin Road | None | +97
Hollomans Branch:
Tributary 1 | At the confluence with Hollomans Branch | None | +69 | Hillsborough County (Unincorporated Areas).
| Approximately 50 feet upstream of Dormany Road | None | +76
Tributary 2 | At the confluence with Hollomans Branch | None | +62 | Hillsborough County (Unincorporated Areas).
| At the downstream side of Platt Road | None | +91
Tributary 3 | At the confluence with Hollomans Branch | None | +55 | Hillsborough County (Unincorporated Areas).
| Approximately 0.6 mile upstream of Knights Griffin Road | None | +71
Howard Prairie Branch | At the confluence with Little Manatee River | +55 | +57 | Hillsborough County (Unincorporated Areas).
| Approximately 40 feet upstream of South County Road 39 | None | +109
Howard Prairie Branch:
Tributary 1 | At the confluence with Howard Prairie Branch | None | +57 | Hillsborough County (Unincorporated Areas).
| Approximately 3.2 miles upstream of Grange Hall Loop | None | +73
Tributary 2 | At the confluence with Howard Prairie Branch | None | +76 | Hillsborough County (Unincorporated Areas).
| Approximately 50 feet upstream of South County Road 39 | None | +117
Itchepackesassa Creek | At the confluence with Blackwater Creek | +90 | +88 | Hillsborough County (Unincorporated Areas).
| Approximately 1.3 miles upstream of Knights Griffin Road | +113 | +112
Itchepackesassa Creek:
Tributary 1 | At the confluence with Itchepackesassa Creek | +106 | +104 | Hillsborough County (Unincorporated Areas).
| Approximately 1.1 miles upstream of Knights Griffin Road | None | +110
Tributary 2 | At the confluence with Itchepackesassa Creek | +104 | +101 | Hillsborough County (Unincorporated Areas).
| Approximately 0.5 mile upstream of the confluence with Itchepackesassa Creek | +106 | +103
Lake Thonotosassa Tributary | At Thonotosassa Road | +39 | +38 | Hillsborough County (Unincorporated Areas).
| At the confluence of Baker Creek and Baker Canal | +43 | +44
Little Bullfrog Creek | At the confluence with Bullfrog Creek | None | +33 | Hillsborough County (Unincorporated Areas).
| Approximately 0.6 mile upstream of Big Bend Road | None | +80
Little Manatee River | Approximately 800 feet downstream of I-75 | +10 | +9 | Hillsborough County (Unincorporated Areas).
| Approximately 2.2 miles upstream of Taylor Gill Road | None | +99
Little Manatee River:
Tributary 2.2 | At the confluence with Little Manatee River Tributary 2 | +12 | +9 | Hillsborough County (Unincorporated Areas).
| Approximately 600 feet upstream of Butch Cassidy Trail | None | +28
Tributary 2.1 | At the confluence with Little Manatee River Tributary 2 | +12 | +9 | Hillsborough County (Unincorporated Areas).
| Approximately 980 feet upstream of Lightfoot Road | None | +17
Tributary 1 | At the confluence with Little Manatee River | +11 | +9 | Hillsborough County (Unincorporated Areas).
| At 30th Street SE | +15 | +9
Tributary 10 | At the confluence with Little Manatee River | +54 | +57 | Hillsborough County (Unincorporated Areas).
| Approximately 1.1 miles upstream of State Road 674 | None | +105
Tributary 11 | At the confluence with Little Manatee River | +58 | +61 | Hillsborough County (Unincorporated Areas).
| Approximately 1.6 miles upstream of the confluence with Little Manatee River | None | +83
Tributary 12 | At the confluence with Little Manatee River | +69 | +72 | Hillsborough County (Unincorporated Areas).
| Approximately 50 feet upstream of State Road 674 | None | +116
Tributary 13 | At the confluence with Little Manatee River | +69 | +72 | Hillsborough County (Unincorporated Areas).
| Approximately 0.3 mile upstream of State Road 674 | None | +120
Tributary 2 | At the confluence with Little Manatee River | +12 | +9 | Hillsborough County (Unincorporated Areas).
| Approximately 50 feet upstream of U.S. Route 301 | None | +21
Tributary 3 | At the confluence with Little Manatee River | +17 | +15 | Hillsborough County (Unincorporated Areas).
| Approximately 600 feet upstream of Palmetto Road | None | +19
Tributary 4 | At the confluence with Little Manatee River | +36 | +35 | Hillsborough County (Unincorporated Areas).
| Approximately 1.3 miles upstream of the confluence with Little Manatee River | None | +54
Tributary 5 | At the confluence with Little Manatee River | +37 | +36 | Hillsborough County (Unincorporated Areas).
| Approximately 1.4 miles upstream of the confluence of Little Manatee River Tributary 5.1 | None | +85
Tributary 5.1 | At the confluence with Little Manatee River Tributary 5 | None | +53 | Hillsborough County (Unincorporated Areas).
| Approximately 0.9 mile upstream of the confluence with Little Manatee River Tributary 5 | None | +92
Tributary 6 | At the confluence with Little Manatee River | +39 | +40 | Hillsborough County (Unincorporated Areas).
| Approximately 0.3 mile upstream of Leonard Lee Road | None | +56
Tributary 7 | At the confluence with Little Manatee River | +42 | +44 | Hillsborough County (Unincorporated Areas).
| Approximately 1.1 miles upstream of the confluence of Little Manatee River Tributary 7.1 | None | +79
Tributary 7.1 | At the confluence with Little Manatee River Tributary 7 | None | +53 | Hillsborough County (Unincorporated Areas).
| Approximately 1.0 mile upstream of the confluence with Little Manatee River Tributary 7 | None | +81
Tributary 8 | At the confluence with Little Manatee River | +48 | +50 | Hillsborough County (Unincorporated Areas).
| Approximately 0.5 mile upstream of Grange Hall Loop | None | +72
Tributary 9 | At the confluence with Little Manatee River | +50 | +51 | Hillsborough County (Unincorporated Areas).
| Approximately 1.6 miles upstream of Grange Hall Loop | None | +59
Lower Sweetwater Creek Tributary 1 | Approximately 500 feet downstream of Sawyer Road | +9 | +10 | Hillsborough County (Unincorporated Areas).
| Approximately 800 feet upstream of Paris Street West | None | +33
Mil Lake Tributary | Approximately 0.4 mile downstream of Livingston Avenue | None | +35 | Hillsborough County (Unincorporated Areas).
| Approximately 65 feet downstream of Livingston Avenue | None | +42
Mill Creek:
Tributary 1 | At the confluence with Mill Creek | None | +105 | Hillsborough County (Unincorporated Areas).
| Approximately 25 feet upstream of Bennett Road | None | +108
Tributary 2 | At the confluence with Mill Creek | None | +106 | Hillsborough County (Unincorporated Areas), City of Plant City.
| Approximately 0.6 mile upstream of Interstate 4 | None | +108
New River | At the confluence with Hillsborough River | +43 | +41 | Hillsborough County (Unincorporated Areas), City of Tampa.
| Approximately 2,000 feet upstream of Morris Bridge Road | +62 | +63
New River East | At the confluence with New River | +43 | +47 | Hillsborough County (Unincorporated Areas).
| At the Hillsborough County boundary | None | +66
North Archie Creek | Approximately 1,500 feet downstream of 78th Street South | +10 | +11 | Hillsborough County (Unincorporated Areas).
| At the upstream side of Valhalla Pond Drive | None | +28
North Lake Tributary | At the upstream side of Pebble Beach Boulevard | None | +38 | Hillsborough County (Unincorporated Areas).
| Approximately 0.3 mile upstream of Cherry Hills Drive | None | +54 |
North Prong Bullfrog Creek | At the confluence with Bullfrog Creek | None | +53 | Hillsborough County (Unincorporated Areas).
| Approximately 1.4 miles upstream of the confluence with Bullfrog Creek | None | +85 |
Pemberton Creek | Tributary 1 | At the confluence with Pemberton Creek | +80 | +78 | Hillsborough County (Unincorporated Areas).
| At U.S. Highway 92 | +85 | +83 |
Pierce Branch | At the confluence with Little Manatee River | +48 | +50 | Hillsborough County (Unincorporated Areas).
| Approximately 2.1 miles upstream of the confluence of Pierce Branch Tributary 3 | None | +124
Pierce Branch | Tributary 1 | At the confluence with Pierce Branch | None | +79 | Hillsborough County (Unincorporated Areas).
| Approximately 0.8 mile upstream of the confluence with Pierce Branch | None | +110
Tributary 2 | At the confluence with Pierce Branch | None | +99 | Hillsborough County (Unincorporated Areas).
| Approximately 1.9 miles upstream of the confluence with Pierce Branch | None | +117 |
Tributary 3 | At the confluence with Pierce Branch | None | +101 | Hillsborough County (Unincorporated Areas).
| Approximately 30 feet upstream of Sweat Loop Road | None | +115 |
Ponding Area | Entire shoreline within community | None | +35 | City of Temple Terrace.
Ponding Areas | Entire shoreline within community, lowest range of elevations found | None | +105 | City of Plant City.
| Entire shoreline within community, highest range of elevations found | None | +145 |
| Entire shoreline within community, lowest range of elevations found | None | +8 | Hillsborough County (Unincorporated Areas).
| Entire shoreline within community, highest range of elevations found | None | +143 |
| Entire shoreline within community, lowest range of elevations found | None | +12 | City of Tampa.
| Entire shoreline within community, highest range of elevations found | None | +62 |
Rocky Creek | Approximately 1,400 feet downstream of Linebaugh Avenue | +14 | +13 | Hillsborough County (Unincorporated Areas).
| Approximately 300 feet upstream of Hammock Woods Drive | +47 | +46 |
Rocky Creek Tributary 1 | At the confluence with Turkey Ford Lake | +57 | +56 | Hillsborough County (Unincorporated Areas).
| Approximately 0.8 mile upstream of Fishermans Bend Drive | None | +63 |
Ruskin Inlet/Marsh Branch | Approximately 350 feet downstream of College Avenue | +10 | +9 | Hillsborough County (Unincorporated Areas).
| Approximately 0.8 mile upstream of 14th Avenue SE | None | +21 |
Six Mile Creek | At the confluence with Tampa Bypass Canal | None | +11 | Hillsborough County (Unincorporated Areas).
| Approximately 450 feet upstream of Orient Road | None | +26 |
South Fork Little Manatee River | At the confluence with Little Manatee River | +34 | +35 | Hillsborough County (Unincorporated Areas).
| At the Hillsborough County boundary | None | +45 |
Sportman Branch | At the confluence with Pemberton Creek | +90 | +89 | Hillsborough County (Unincorporated Areas).
| At Mud Lake Road | None | +125 |
Sweetwater Creek | Approximately 500 feet upstream of Hanley Road | +9 | +10 | Hillsborough County (Unincorporated Areas).
| Approximately 65 feet upstream of Orange Grove Drive | +40 | +43 |
Sweetwater Creek Channel H | At the confluence with Sweetwater Creek | +15 | +18 | Hillsborough County (Unincorporated Areas).
| Approximately 75 feet downstream of Waters Avenue | None | +30 |
Tadpole Creek | At the confluence with Bullfrog Creek | +29 | +24 | Hillsborough County (Unincorporated Areas).
| Approximately 70 feet upstream of U.S. Highway 301 | None | +42 |
Tampa Bay | Areas within MacDill Air Force Base | None | +9 | Hillsborough County (Unincorporated Areas), City of Tampa.
Tampa Bypass Canal | At Gate S-160 | +10 | +11 | Hillsborough County (Unincorporated Areas).
| At the confluence of Cow House Creek | None | +35 |
Tampa Bypass Canal Main Ditch | At the confluence with Tampa Bypass Canal | None | +15 | Hillsborough County (Unincorporated Areas).
| Approximately 1.5 miles upstream of Eureka Springs Road | None | +18 |
Tampa Bypass Canal:
Tributary 1 | At the confluence with Tampa Bypass Canal | None | +11 | Hillsborough County (Unincorporated Areas).
| Approximately 40 feet downstream of Lakewood Drive | None | +34 |
Tributary 1 South Branch | At the confluence with Tampa Bypass Canal Tributary 1 | None | +15 | Hillsborough County (Unincorporated Areas).
| Approximately 300 feet upstream of the confluence with Tampa Bypass Canal Tributary 1 | None | +16 |
Tributary 2 | Approximately 200 feet upstream of the confluence with Tampa Bypass Canal | None | +10 | Hillsborough County (Unincorporated Areas).
| Approximately 20 feet upstream of railroad | None | +22 |
Tiger Creek | At the confluence with Blackwatch Creek | +86 | +83 | Hillsborough County (Unincorporated Areas).
| On the upstream side of Half Mile Road | None | +100 |
Trout Creek | At the confluence with Hillsborough River | +38 | +35 | Hillsborough County (Unincorporated Areas).
| At the Hillsborough County boundary | +51 | +49 | City of Tampa
Tucker Rhodine | Approximately 0.3 mile from the confluence with Bullfrog Creek | +23 | +22 | Hillsborough County (Unincorporated Areas).
| Approximately 0.6 mile upstream of the confluence with Bullfrog Creek | None | +39 |
Two Hole Branch | At the confluence with Hillsborough River | +40 | +37 | Hillsborough County (Unincorporated Areas).
| Approximately 1.5 miles upstream of Bruton Road | None | +93 |
Two Hole Branch Tributary 1 | At the confluence with Two Hole Branch | None | +69 | Hillsborough County (Unincorporated Areas).
| Approximately 2.6 miles upstream of Bob Smith Avenue | None | +97 |
Wildcat Creek | Approximately 1.7 miles upstream of the confluence with Little Manatee River | +8 | +9 | Hillsborough County (Unincorporated Areas).
| Approximately 0.7 mile upstream of Stephens Road | None | +15
* National Geodetic Vertical Datum.
# Depth in feet above ground.
+ North American Vertical Datum.
ADDRESSES
City of Plant City
Maps are available for inspection at the Plant City City Hall, 302 West Reynolds Street, Plant City, Florida. Send comments to The Honorable John L. Dicks, Mayor, City of Plant City, 302 West Reynolds Street, Plant City, Florida 33563.
City of Tampa
Maps are available for inspection at the City of Tampa Construction Services Center, 1400 North Boulevard, Tampa, Florida
Send comments to The Honorable Pam Iorio, Mayor, City of Tampa, 306 East Jackson Street, Tampa, Florida 33602.
City of Temple Terrace
Maps are available for inspection at the City of Temple Terrace Engineering Department, 11210 North 53rd Street, Temple Terrace, Florida.
Send comments to Mr. Kim D. Leinbach, Temple Terrace City Manager, 11250 North 56th Street, Temple Terrace, Florida 33617.
Hillsborough County (Unincorporated Areas)
Maps are available for inspection at the Hillsborough County Department of Planning and Growth Management, 5701 East Hillsborough Avenue, Suite 1140, Tampa, Florida.
Send comments to Mr. Jim Norman, Chairman Hillsborough County Board of Commissioners, Hillsborough County Government Center, 601 East Kennedy Boulevard, Tampa, Florida 33602.
Greene County, New York (All Jurisdictions)
Batavia Kill | At the confluence with Schoharie Creek | +1,181 | +1,180 | Town of Ashland, Town of Prattsville, Town of Windham.
| Approximately 0.44 mile upstream of Big Hollow Road | +2,322 | +2,312 |
East Kill | Approximately 60 feet downstream of State Route 23A | None | +1,402 | Town of Jewett.
| At the Colgate Outlet Access Road | None | +2,063 |
Gooseberry Creek | At the confluence with Schoharie Creek | +1,734 | +1,729 | Town of Hunter, Village of Tannersville.
| Approximately 50 feet upstream of the confluence of Sawmill Creek | +1,860 | +1,861 |
Mitchell Hollow Creek | Approximately 260 feet upstream of the confluence with Batavia Kill | +1,517 | +1,518 | Town of Windham.
| Approximately 0.54 mile upstream of State Route 23 | None | +1,566 |
Sawmill Creek | At the confluence with Gooseberry Creek | +1,862 | +1,860 | Town of Hunter, Village of Tannersville.
| Approximately 320 feet upstream of Spring Street | None | +1,973 |
Schoharie Creek | At the county boundary | None | +1,143 | Town of Hunter, Town of Jewett, Town of Lexington, Town of Prattsville, Village of Hunter.
| Approximately 270 feet upstream of Elka Road | None | +1,806
Stony Clove Creek | At the county boundary | +1,168 | +1,169 | Town of Hunter.
| Approximately 500 feet upstream of State Route 214 | None | +1,794
West Kill | At the confluence with Scoharie Creek | +1,319 | +1,318 | Town of Lexington.
| Approximately 660 feet upstream of Ad Van Road | None | +1,942
* National Geodetic Vertical Datum.
# Depth in feet above ground.
+ North American Vertical Datum.
ADDRESSES
Town of Ashland
Maps are available for inspection at the Ashland Town Hall, 12094 Route 23, Ashland, New York.
Send comments to Mr. Richard B. Thompkins, Ashland Town Supervisor, P.O. Box 129, Ashland, New York 12407.
Town of Hunter
Maps are available for inspection at the Hunter Town Hall, 5748 Route 23A, Tannersville, New York.
Send comments to Mr. Dennis Lucas, Hunter Town Supervisor, 5748 Route 23A, Tannersville, New York 12485.
Town of Jewett
Maps are available for inspection at the Jewett Municipal Building, 3547 County Route 23C, Jewett, New York.
Send comments to Mr. Michael Flaherty, Jewett Town Supervisor, P.O. Box 132, Jewett, New York 12444.
Town of Lexington
Maps are available for inspection at the Lexington Town Hall, 3542 Route 42, Lexington, New York.
Send comments to Ms. Dixie Baldrey, Lexington Town Supervisor, P.O. Box 28, Lexington, New York 12452.
Town of Prattsville
Maps are available for inspection at the Prattsville Town Hall, Supervisor's Office, 14517 Main Street, Prattsville, New York.
Send comments to Mr. Richard F. Morse, Prattsville Town Supervisor, P.O. Box 418, Prattsville, New York 12468.
Town of Windham
Maps are available for inspection at the Windham Town Hall, 371 State Route 296, Hensonville, New York.
Send comments to Mr. T. Patrick Meehan, Jr., Windham Town Supervisor, 371 State Route 296, Hensonville, New York 12439.
Village of Hunter
Maps are available for inspection at the Hunter Village Hall, 6349 Main Street, Hunter, New York.
Send comments to The Honorable William Maley, Mayor of the Village of Hunter, P.O. Box 44, Hunter, New York 12442.
Village of Tannersville
Maps are available for inspection at the Tannersville Village Hall, 1 Park Lane, Tannersville, New York.
Send comments to The Honorable Gina Legari, Mayor of the Village of Tannersville, P.O. Box 967, Tannersville, New York 12485.
Westchester County, New York (All Jurisdictions)
Barney Brook | Approximately 10 feet downstream of Buckhout Street | None | +26 | Village of Irvington.
| Approximately 0.4 mile upstream of Fieldpoint Drive | +391 | +370
Barney Brook Tributary | At the confluence with Barney Brook | +99 | +98 | Village of Irvington.
| Approximately 0.40 mile upstream of Easy Clinton Avenue | None | +268
Beaver Swamp Brook | Upstream side of East Boston Post Road | None | +21 | Village of Mamaroneck, City of Rye, Town of Harrison.
| Approximately 470 feet upstream of Park Drive South | None | +80
Blind Brook | Approximately 100 feet upstream of Oakland Beach Avenue | +14 | +13 | City of Rye, Town of Harrison, Village of Rye Brook.
| Approximately 0.4 mile upstream of Lincoln Avenue | +366 | +363
Branch Brook | Downstream side of Saw Mill Parkway | +280 | +281 | Village of Mount Kisco, Town of Bedford.
| Approximately 160 feet upstream of Wood Road | None | +405
Brentwood Brook | At the confluence with Beaver Swamp Brook | +31 | +33 | Town of Harrison, Village of Mamaroneck.
| Approximately 100 feet downstream of Haviland Road | None | +122
Bronx River | At the Westchester/Bronx County boundary | +69 | +66 | Town of Eastchester, City of White Plains, City of Yonkers, Town of Greenburgh, Town of Mount Pleasant, Town of North Castle, Village of Bronxville, Village of Scarsdale, Village of Tuckahoe.
| Approximately 0.52 mile upstream of Bronx River Parkway | None | +208
Brown Brook | At the confluence of Muscoot Reservoir | +193 | +201 | Town of Somers.
| Approximately 0.59 mile upstream of Warren Street | +426 | +425
Byram River Reach 1 | Approximately 0.45 mile downstream of New England Highway | +11 | +12 | Village of Port Chester.
| Approximately 700 feet upstream of Hillside Avenue | +17 | +18
Caney Brook | Approximately 0.74 mile downstream of Long Hill Road | None | +219 | Village of Briarcliff Manor.
| Approximately 57 feet downstream of Scarborough Road | None | +325
Clove Brook | Upstream side of Taconic State Parkway (North Bound) | +243 | +244 | Town of Mount Pleasant.
| Approximately 0.28 mile upstream of Taconic State Parkway | None | +267
Croton River | Approximately 700 feet upstream of U.S. Highway 9 | +7 | +8 | Town of Ossining, Town of Cortlandt, Village of Croton-On-Hudson.
| Approximately 0.70 mile upstream of Quaker Bridge Road | +49 | +53
East Branch:
Blind Brook | At confluence with Blind Brook | +36 | +35 | Village of Rye Brook.
| Approximately 250 feet upstream of Bluebird Hollow | None | +143
Mamaroneck Branch | Approximately 65 feet downstream of Anderson Hill Road | +138 | +134 | Town of Harrison.
| Approximately 0.76 mile upstream of Old Lake Street | None | +252
Sheldrake River | At the confluence with Sheldrake River | +61 | +59 | Town of Mamaroneck.
| Approximately 175 feet downstream of Fenmore Road | +99 | +97
Fly Kill Brook | At the confluence with Saw Mill River | +230 | +231 | Town of Mount Pleasant.
| Approximately 130 feet downstream of Livingston Street | +249 | +248
Furnace Brook | At the upstream side of Cortlandt Road | None | +7 | Town of Cortlandt.
| Approximately 450 feet upstream of Maple Avenue | None | +307
Grassy Sprain Brook | At the confluence with Bronx River | +85 | +84 | City of Yonkers.
| Approximately 0.74 mile upstream of Bronx River Parkway | None | +84
Hillside Avenue Brook | At confluence with East Branch Blind Brook | None | +132 | Village of Rye Brook.
| Approximately 145 feet upstream of Hillandale Road | None | +202
Hutchinson River | Approximately 800 feet upstream of East Sanford Boulevard | +14 | +13 | Village of Scarsdale, City of Mount Vernon, City of New Rochelle, Town of Eastchester, Village of Pelham, Village of Pelham Manor.
| Approximately 0.6 mile upstream of Grand Avenue | +234 | +226
Kensico Road Tributary | At confluence with Nanny Hagan Brook | +254 | +250 | Town of Mount Pleasant.
| Approximately 88 feet downstream of Rolling Hills Road | #3 | +352
Kil Brook | At the confluence with Sing Sing Creek | None | +186 | Village of Ossining, Town of Ossining.
| Approximately 290 feet upstream of Brookside Lane | None | +480
Kisco River | At the confluence with New Croton Reservoir | +195 | +205 | Town of New Castle.
| Approximately 0.3 mile upstream of Lake Road | +204 | +205
Knollwood Brook | Approximately 350 feet upstream of Woodside Avenue | None | +233 | Town of Greenburgh.
| Approximately 0.2 mile upstream of Knollwood Road | None | +270
Lecount Creek | Confluence with Lower Mamaroneck River | +35 | +31 | Town of Harrison.
| Approximately 455 feet upstream of West Street | +35 | +34
Leroy Avenue Brook | Approximately 665 feet downstream of South Broadway Road | None | +87 | Village of Tarrytown.
| Approximately 280 feet upstream of Loh Avenue | None | +234
Lower Mamaroneck River | At the upstream side of East Prospect Avenue | +16 | +17 | Village of Mamaroneck, Town of Harrison.
| Approximately 800 feet upstream of Winfield Avenue | +40 | +48
Lower Pocantico River | Approximately 0.21 mile downstream of Devries Avenue | None | +15 | Village of Sleepy Hollow, Town of Mount Pleasant.
| Approximately 0.76 mile upstream of Gory Brook Road | None | +142
Mamaroneck River Upper Reach | Approximately 120 feet downstream of Interstate 287 On-Ramp | None | +143 | Town of Harrison, City of White Plains.
| Approximately 300 feet upstream of Lake Street | None | +179
Mianus River | Approximately 1.0 mile downstream of Millers Mill Road | None | +330 | Town of North Castle, Town of Bedford, Town of Pound Ridge.
| Approximately 0.5 mile downstream of Brookwood Road | None | +360
Mohegan Outlet | Approximately 0.47 mile downstream of Foothill Street | None | +195 | Town of Cortlandt, Town of Yorktown.
| Approximately 50 feet upstream of East Main Street | None | +451
Nanny Hagen Brook | Approximately 425 feet upstream of confluence with Saw Mill River | +251 | +250 | Town of Mount Pleasant, Village of Pleasantville.
| Approximately 0.3 mile upstream of Marble Avenue | +264 | +263
Nelson Creek | At the confluence with Brentwood Brook | +61 | +65 | Town of Harrison.
| Approximately 0.6 mile upstream of Union Avenue | +103 | +125
New Croton Reservoir | Entire shoreline within community | +198 | +205 | Town of New Castle, Town of Bedford, Town of Cortlandt, Town of Somers, Town of Yorktown.
Peekskill Hollow Brook Tributary | Approximately 50 feet upstream of confluence with Peekskill Hollow Brook | +63 | +64 | Town of Cortlandt.
| Approximately 250 feet downstream of Bear Mountain State Parkway | None | +313
Plum Brook | Approximately 35 feet downstream of Somerstown Road | None | +199 | Town of Somers.
| At the Westchester/Putnam County boundary | +498 | +503
Plum Brook Tributary 1 | At confluence with Plum Brook | +402 | +403 | Town of Somers.
| Approximately 190 feet upstream of Lake Shore Drive | +457 | +458
Saw Mill River | Approximately 530 feet downstream of New School Street | None | +48 | Village of Dobbs Ferry, City of Yonkers, Town of Greenburgh, Town of Mount Pleasant, Town of New Castle, Village of Ardsley, Village of Elmsford, Village of Hastings-On-Hudson, Village of Irvington, Village of Pleasantville.
| Approximately 0.35 mile upstream of Kipp Street | None | +399
Saw Mill River West Channel | At the confluence with Saw Mill River | +123 | +122 | Village of Dobbs Ferry.
| At the confluence from Saw Mill River | +126 | +127
Sheldrake River | At the confluence with Lower Mamaroneck River | +27 | +26 | Town of Mamaroneck, Village of Mamaroneck, Village of Scarsdale.
| Approximately 30 feet downstream of Catherine Road | +239 | +240
Sing Sing Creek | At the confluence with Hudson River | None | +7 | Village of Ossining, Town of Ossining.
| Approximately 0.3 mile upstream of Marble Place | None | +186
South Fox Meadow Brook | Approximately 50 feet downstream of Bronx River Parkway | +156 | +157 | Village of Scarsdale.
| Approximately 0.24 mile upstream of Oxford Road | None | +223
Sunnyside Brook | Approximately 175 feet upstream of Metro North Railroad | +7 | +8 | Village of Irvington, Town of Greenburgh, Village of Tarrytown.
| Approximately 0.22 feet upstream of Mountain Road | None | +347
Tibbetts Brook | Approximately 0.23 mile downstream of McLean Avenue | None | +29 | City of Yonkers.
| Approximately 0.52 mile upstream of McLean Avenue | None | +37
Troublesome Brook | At the confluence with Bronx River | +105 | +104 | City of Yonkers.
| Approximately 0.23 mile upstream of Maria Lane | +158 | +169
Unnamed Tributary to Plum Brook | At confluence with Plum Brook | +274 | +275 | Town of Somers.
| Approximately 430 feet upstream of Dunhill Road | None | +294
Upper Pocantico River | Approximately 530 feet downstream of Beech Hill Road | +230 | +229 | Village of Briarcliff Manor, Town of Mount Pleasant, Town of Ossining.
| Approximately 800 feet upstream of Chappaqua Road | None | +273
Wickers Creek | At the Metro North Railroad | +10 | +7 | Village of Dobbs Ferry.
| Approximately 910 feet downstream of Broadway (U.S. Route 9) | +97 | +92
Woodlands Road:
Brook 1 | At the confluence with Brentwood Brook | None | +69 | Town of Harrison.
| Approximately 350 feet upstream of Woodlands Road | None | +92
Brook 2 | Approximately 0.20 mile downstream of Woodlands Road | None | +72 | Town of Harrison
| Approximately 150 feet upstream of Woodlands Road | None | +92 |
* National Geodetic Vertical Datum.
# Depth in feet above ground.
+ North American Vertical Datum.
ADDRESSES
City of Mount Vernon
Maps are available for inspection at the Mount Vernon City Hall, Room 108, 1 Roosevelt Square, Mount Vernon, New York.
Send comments to The Honorable Ernest D. Davis, Mayor of the City of Mount Vernon, 1 Roosevelt Square, Mount Vernon, New York 10550.
City of New Rochelle
Maps are available for inspection at the New Rochelle City Department of Public Works, 515 North Avenue, New Rochelle, New York.
Send comments to The Honorable Noam Bramson, Mayor of the City of New Rochelle, 515 North Avenue, New Rochelle, New York 10801.
City of Rye
Maps are available for inspection at the Rye City Engineering Department, 1051 Bost Post Road, Rye, New York.
Send comments to The Honorable Steven Otis, Mayor of the City of Rye, 3rd floor City Hall, Rye, New York 10580.
City of White Plains
Maps are available for inspection at the White Plains City Planning Department, 255 Main Street, White Plains, New York.
Send comments to The Honorable Joseph M. Delfino, Mayor of the City of White Plains, 255 Main Street, White Plains, New York 10601.
City of Yonkers
Maps are available for inspection at the Yonkers City Hall, Engineering Department, Room 315, 40 South Broadway, Yonkers, New York.
Send comments to The Honorable Philip A. Amicone, Mayor of the City of Yonkers, 40 South Broadway, Yonkers, New York 10701.
Town of Bedford
Maps are available for inspection at the Bedford Town Planning Office, 425 Cherry Street, Bedford Hills, New York.
Send comments to Mr. Lee V.A. Roberts, Bedford Town Supervisor, 321 Bedford Road, Bedford Hills, New York 10507.
Town of Cortlandt
Maps are available for inspection at the Cortlandt Town Engineering Department, 1 Heady Street, Cortlandt, New York.
Send comments to Ms. Linda D. Puglisi, Cortlandt Town Supervisor, 1 Heady Street, Cortlandt, New York 10567.
Town of Eastchester
Maps are available for inspection at the Eastchester Town Building and Planning Department, 40 Mill Road, Eastchester, New York.
Send comments to Mr. Anthony S. Colavita, Eastchester Town Supervisor, 40 Mill Road, Eastchester, New York 10709.
Town of Greenburgh
Maps are available for inspection at the Greenburgh Town Engineering Department, 177 Hillside Avenue, Greenburgh, New York.
Send comments to Mr. Paul Feiner, Greenburgh Town Supervisor, 177 Hillside Avenue, Greenburgh, New York 10607.
Town of Harrison
Maps are available for inspection at the Harrison Town Engineering Department, 1 Heineman Place, Harrison, New York.
Send comments to The Honorable Stephen Malfitano, Mayor of the Town of Harrison, 1 Heineman Place, Harrison, New York 10528.
Town of Mamaroneck
Maps are available for inspection at the Mamaroneck Village Building Department, 740 West Boston Post Road, Mamaroneck, New York.
Send comments to Ms. Valerie M. O'Keefe, Mamaroneck Town Supervisor, 740 West Boston Post Road, Mamaroneck, New York 10543.
Town of Mount Pleasant
Maps are available for inspection at the Mount Pleasant Town Construction and Zoning Office, 1 Town Hall Plaza, Valhalla, New York.
Send comments to Ms. Joan A. Maybury, Mount Pleasant Town Supervisor, 1 Town Hall Plaza, Valhalla, New York 10595.
Town of New Castle
Maps are available for inspection at the New Castle Town Building Department, 200 South Greeley Avenue, Chappaqua, New York.
Send comments to Mr. Gennaro J. Faiella, New Castle Town Administrator, 200 South Greeley Avenue, Chappaqua, New York 10514.
Town of North Castle
Maps are available for inspection at the North Castle Town Building Department, 17 Bedford Road, Armonk, New York.
Send comments to Ms. Reese Berman, North Castle Town Supervisor, 15 Bedford Road, Armonk, New York 10504.
Town of Ossining
Maps are available for inspection at the Ossining Town Building Department, 101 Route 9A, Ossining Town Operations Center, Ossining, New York.
Send comments to Mr. John V. Cherrokas, Ossining Town Supervisor, 16 Croton Avenue, Ossining, New York 10562.
Town of Pound Ridge
Maps are available for inspection at the Pound Ridge Town Building Department, Town House, 179 Westchester Avenue, Pound Ridge, New York.
Send comments to Mr. Gary David Warshauer, Pound Ridge Town Supervisor, The Town House, 179 Westchester Avenue, Pound Ridge, New York 10576.
Town of Scarsdale
Maps are available for inspection at the Scarsdale Building Department, 1001 Post Road, Scarsdale, New York.
Send comments to Mr. Alfred A. Gatta, Scarsdale Village Manager, 1001 Post Road, Scarsdale, New York.
Town of Somers
Maps are available for inspection at the Somers Town House Engineering Department, 335 Route 202, Somers, New York.
Send comments to Ms. Mary Beth Murphy, Somers Town Supervisor, Town House, 335 Route 202, Somers, New York 10589.
Town of Yorktown
Maps are available for inspection at the Yorktown Town Engineering Department, 363 Underhill Avenue, Yorktown Heights, New York.
Send comments to Ms. Linda Cooper, Yorktown Town Supervisor, 363 Underhill Avenue, Yorktown, New York 10598.
Village of Ardsley
Maps are available for inspection at the Ardsley Village Building Department, 507 Ashford Avenue, Ardsley, New York.
Send comments to The Honorable Jay Leon, Mayor of the Village of Ardsley, 507 Ashford Avenue, Ardsley, New York 10502.
Village of Briarcliff Manor
Maps are available for inspection at the Briarcliff Village Engineer's Office, 1111 Pleasantville Road, Briarcliff, New York.
Send comments to The Honorable William Vescio, Mayor of the Village of Briarcliff Manor, 1111 Pleasantville Road, Briarcliff Manor, New York 10510.
Village of Bronxville
Maps are available for inspection at the Bronxville Village Engineer's Office, 200 Pondfield Road, Bronxville, New York.
Send comments to The Honorable Mary C. Marvin, Mayor of the Village of Bronxville, 200 Pondfield Road, Bronxville, New York 10708.
Village of Croton-on-Hudson
Maps are available for inspection at the Croton-on-Hudson Village Engineering Department, 1 Van Wyck Street, Croton-on-Hudson, New York.
Send comments to Mr. Richard F. Herbek, Croton-on-Hudson Village Manager, Stanley H. Kellerhause Municipal Building, Croton-on-Hudson, New York 10520.
Village of Dobbs Ferry
Maps are available for inspection at the Dobbs Ferry Village Engineering Department, 112 Main Street, Dobbs Ferry, New York.
Send comments to The Honorable Joseph J. Bora, Mayor of the Village of Dobbs Ferry, 117 Main Street, Dobbs Ferry, New York 10522.
Village of Elmsford
Maps are available for inspection at the Elmsford Village Hall, 15 South Stone Avenue, Elmsford, New York.
Send comments to The Honorable Robert Williams, Mayor of the Village of Elmsford, 15 South Stone Avenue, Elmsford, New York 10523.
Village of Hastings-on-Hudson
Maps are available for inspection at the Hastings-on-Hudson Village Building Department, 7 Maple Avenue, Hastings-on-Hudson, New York.
Send comments to Mr. Francis A. Frobel, Hastings-on-Hudson Village Manager, 7 Maple Avenue, Hastings-on-Hudson, New York 10706.
Village of Irvington
Maps are available for inspection at the Irvington Village Building Department, 85 Main Street, Irvington, New York.
Send comments to The Honorable Dennis P. Flood, Mayor of the Village of Irvington, 85 Main Street, Irvington, New York 10533.
Village of Mamaroneck
Maps are available for inspection at the Mamaroneck Village Building Department, 169 Mount Pleasant Avenue, Mamaroneck, New York.
Send comments to Mr. Philip Trifiletti, Mamaroneck Village Manager, P.O. Box 369, Mamaroneck, New York 10543.
Village of Mount Kisco
Maps are available for inspection at the Mount Kisco Village Hall, 104 Main Street, Mount Kisco, New York.
Send comments to The Honorable Michael Cindrich, Mayor of the Village of Mount Kisco, 104 Main Street, Mount Kisco, New York 10549.
Village of Ossining
Maps are available for inspection at the Ossining Village Building Department, 101 Route 9A, Ossining Village Operations Center, Ossining, New York.
Send comments to Ms. Linda Abels, Ossining Village Manager, 16 Croton Avenue, Ossining, New York 10562.
Village of Pelham
Maps are available for inspection at the Pelham Village Hall, 195 Sparks Avenue, Pelham, New York.
Send comments to The Honorable Michael Cain, Mayor of the Village of Pelham, 195 Sparks Avenue, Pelham, New York 10803.
Village of Pelham Manor
Maps are available for inspection at the Pelham Manor Village Hall, 4 Penfield Place, Pelham Manor, New York.
Send comments to The Honorable Lorri S. Gorman, Mayor of the Village of Pelham Manor, 4 Penfield Place, Pelham Manor, New York 10803.
Village of Pleasantville
Maps are available for inspection at the Pleasantville Village Building Department, 80 Wheeler Avenue, Pleasantville, New York.
Send comments to The Honorable Bernard Gordon, Mayor of the Village of Pleasantville, 80 Wheeler Avenue, Pleasantville, New York 10570.
Village of Port Chester
Maps are available for inspection at the Port Chester Village Clerk's Office, 10 Pearl Street, Port Chester, New York.
Send comments to Mr. William F. Williams, Port Chester Village Manager, 10 Pearl Street, 2nd floor, Port Chester, New York 10573.
Village of Rye Brook
Maps are available for inspection at the Rye Brook Village Building Department, 938 King Street, Rye Brook, New York.
Send comments to The Honorable Lawrence A. Rand, Mayor of the Village of Rye Brook, 938 King Street, Rye Brook, New York 10573.
Village of Scarsdale
Maps are available for inspection at the Scarsdale Village Engineering Department, 1001 Post Road, Scarsdale, New York.
Send comments to Mr. Alfred A. Gatta, Scarsdale Village Manager, 1001 Post Road, Scarsdale, New York 10583.
Village of Sleepy Hollow
Maps are available for inspection at the Sleepy Hollow Village Inspector's Office, 28 Beekman Avenue, Sleepy Hollow, New York.
Send comments to Mr. Philip E. Zegarelli, Sleepy Hollow Village Administrator, 28 Beekman Avenue, Sleepy Hollow, New York 10591.
Village of Tarrytown
Maps are available for inspection at the Tarrytown Village Building Department, 21 Wildey Street, Tarrytown, New York.
Send comments to Mr. Stephen McCabe, Tarrytown Village Administrator, 21 Wildey Street, Tarrytown, New York 10591.
Village of Tuckahoe
Maps are available for inspection at the Tuckahoe Village Hall, 65 Main Street, Tuckahoe, New York.
Send comments to The Honorable Michael J. Martino, Mayor of the Village of Tuckahoe, 65 Main Street, Tuckahoe, New York 10707.
Randolph County, North Carolina and Incorporated Areas
Asheworth Branch | At the Randolph/Montgomery County boundary | None | +574 | Randolph County (Unincorporated Areas).
| Approximately 215 feet upstream of King Drive | None | +574
Back Creek | At the confluence with Caraway Creek | None | +429 | Randolph County (Unincorporated Areas), City of Asheboro.
| Approximately 110 feet upstream of the confluence of Back Creek Tributary 1 | None | +572
Back Creek:
Tributary 1 | At the confluence with Back Creek | None | +571 | Randolph County (Unincorporated Areas).
| Approximately 0.5 mile upstream of Heath Dairy Road (State road 1511) | None | +606
Tributary 1A | At the confluence with Back Creek Tributary 1 | None | +597 | Randolph County (Unincorporated Areas).
| Approximately 1,050 feet upstream of the confluence with Back Creek Tributary 1 | None | +602
Betty McGees Creek | At the confluence with Uwharrie River | None | +393 | Randolph County (Unincorporated Areas).
| Approximately 3.7 miles upstream of Lassiter Mill Road (State Road 1107) | None | +505
Big Branch | At the confluence with Little River | None | +656 | Randolph County (Unincorporated Areas).
| Approximately 0.7 mile upstream of the confluence with Little River | None | +686
Brier Creek | At the confluence with Little Uwharrie River | None | +534 | Randolph County (Unincorporated Areas).
| At the Davidson/Randolph County boundary | None | +546
Brier Creek Tributary 1 | At the confluence with Brier Creek | None | +546 | Randolph County (Unincorporated Areas).
| Approximately 1,035 feet upstream of Hughes Grove Road (State Road 1400) | None | +585
Cable Creek | At the confluence with Back Creek | None | +436 | Randolph County (Unincorporated Areas).
| Approximately 1.3 miles upstream of the confluence with Back Creek | None | +456
Caraway Creek | At the confluence with Uwharrie River | None | +408 | Randolph County (Unincorporated Areas), City of Archdale.
| Approximately 1.6 miles upstream of Roy Farlow Road (State Road 1534) | None | +715
Caraway Creek:
Tributary 1 | At the confluence with Caraway Creek | None | +494 | Randolph County (Unincorporated Areas).
| Approximately 1.0 mile upstream of Sawyer Road | None | +594
Tributary 2 | At the confluence with Caraway Creek | None | +543 | Randolph County (Unincorporated Areas).
| Approximately 1,300 feet upstream of Beeson Farm Road (State Road 1525) | None | +627
Tributary 3 | At the confluence with Caraway Creek | None | +681 | Randolph County (Unincorporated Areas).
| Approximately 0.4 mile upstream of the confluence with Caraway Creek | None | +691
Cedar Fork Creek | At the confluence with Back Creek | None | +474 | Randolph County (Unincorporated Areas), City of Asheboro.
| Approximately 760 feet upstream of South Church Street | None | +844
Hannahs Creek | At the confluence with Uwharrie River | None | +389 | Randolph County (Unincorporated Areas).
| Approximately 0.6 mile upstream of the confluence of Robbins Branch | None | +517
Jackson Creek | At the confluence with Uwharrie River | None | +415 | Randolph County (Unincorporated Areas).
| Approximately 0.7 mile upstream of Jackson Creek Road (State Road 1314) | None | +565
Kings Creek | At the confluence with Little River | None | +585 | Randolph County (Unincorporated Areas).
| Approximately 1.4 miles upstream of the confluence with Little River | None | +607
Lakes Creek | At the confluence with Uwharrie River | None | +366 | Randolph County (Unincorporated Areas).
| Approximately 0.4 mile upstream of the confluence with Uwharrie River | None | +418
Laniers Creek | At the confluence with Uwharrie River | None | +381 | Randolph County (Unincorporated Areas).
| Approximately 150 feet downstream of Johnson Farm Road (State Road 1262) | None | +558
Little Caraway Creek | At the confluence with Caraway Creek | None | +461 | Randolph County (Unincorporated Areas).
| Approximately 1.9 miles upstream of the confluence of Little Caraway Creek Tributary 1 | None | +598
Little Caraway Creek Tributary 1 | At the confluence with Little Caraway Creek | None | +536 | Randolph County (Unincorporated Areas).
| Approximately 0.9 mile upstream of the confluence with Little Caraway Creek | None | +568
Little River | At the Randolph/Montgomery County boundary | None | +572 | Randolph County (Unincorporated Areas).
| Approximately 0.5 mile upstream of Southmont Drive (State Road 1145) | None | +742
Little River:
Tributary 10 | At the confluence with Little River | None | +669 | Randolph County (Unincorporated Areas).
| Approximately 1,645 feet upstream of the confluence with Little River | None | +678
Tributary 11 | At the confluence with Little River | None | +672 | Randolph County (Unincorporated Areas).
| Approximately 1,340 feet upstream of the confluence with Little River | None | +680
Tributary 12 | At the confluence with Little River | None | +718 | Randolph County (Unincorporated Areas).
| Approximately 230 feet upstream of U.S. Highway 220 | None | +759
Tributary 2 | At the confluence with Little River | None | +578 | Randolph County (Unincorporated Areas).
| Approximately 0.5 mile upstream of the confluence with Little River | None | +598
Tributary 3 | At the confluence with Little River | None | +586 | Randolph County (Unincorporated Areas).
| Approximately 0.5 mile upstream of the confluence with Little River | None | +606
Tributary 4 | At the confluence with Little River | None | +588 | Randolph County (Unincorporated Areas).
| Approximately 1,210 feet upstream of the confluence with Little River | None | +607
Tributary 5 | At the confluence with Little River | None | +601 | Randolph County (Unincorporated Areas).
| Approximately 1,825 feet upstream of NC Highway 134 | None | +631
Tributary 6 | At the confluence with Little River | None | +614 | Randolph County (Unincorporated Areas).
| Approximately 1,415 feet upstream of the confluence with Little River | None | +653
Tributary 7 | At the confluence with Little River | None | +651 | Randolph County (Unincorporated Areas).
| Approximately 1,190 feet upstream of the confluence with Little River | None | +664
Tributary 8 | At the confluence with Little River | None | +653 | Randolph County (Unincorporated Areas).
| Approximately 1,870 feet upstream of the confluence with Little River | None | +665
Tributary 9 | At the confluence with Little River | None | +664 | Randolph County (Unincorporated Areas).
| Approximately 1,375 feet upstream of the confluence with Little River | None | +686
Little Uwharrie River | At the confluence with Uwharrie River | None | +456 | Randolph County (Unincorporated Areas), City of Trinity.
| Approximately 0.4 mile upstream of NC Highway 62 | None | +891
Little Uwharrie River:
Tributary 1 | At the confluence with Little Uwharrie River | None | +492 | Randolph County (Unincorporated Areas).
| Approximately 0.4 mile upstream of the confluence with Little Uwharrie River | None | +506
Tributary 10 | At the confluence with Little Uwharrie River | None | +814 | Randolph County (Unincorporated Areas), City of Trinity.
| At the Davidson/Randolph County boundary | None | +858
Tributary 10A | At the confluence with Little Uwharrie River Tributary 10 | None | +826 | Randolph County (Unincorporated Areas), City of Trinity.
| Approximately 0.7 mile upstream of the confluence with Little Uwharrie River Tributary 10 | None | +904
Tributary 11 | At the confluence with Little Uwharrie River | None | +829 | City of Trinity.
| At the Davidson/Randolph County boundary | None | +848
Tributary 11A | At the confluence with Little Uwharrie River Tributary 11 | None | +839 | City of Trinity.
| Just upstream of the Davidson/Randolph County boundary | None | +876
Tributary 4 | At the confluence with Little Uwharrie River | None | +691 | Randolph County (Unincorporated Areas).
| Approximately 880 feet upstream of Courtland Drive (State Road 3253) | None | +888
Tributary 5 | At the confluence with Little Uwharrie River | None | +704 | Randolph County (Unincorporated Areas).
| Approximately 90 feet upstream of Refuge Church Drive | None | +790
Tributary 6 | At the confluence with Little Uwharrie River | None | +734 | Randolph County (Unincorporated Areas).
| Approximately 0.7 mile upstream of the confluence with Little Uwharrie River | None | +896
Tributary 6A | At the confluence with Little Uwharrie River Tributary 6 | None | +745 | Randolph County (Unincorporated Areas).
| Approximately 0.5 mile upstream of the confluence with Little Uwharrie River Tributary 6 | None | +850
Tributary 7 | At the confluence with Little Uwharrie River | None | +779 | Randolph County (Unincorporated Areas), City of Trinity.
| Approximately 1,220 feet upstream of Finch Farm Road (State Road 1547) | None | +841
Tributary 8 | At the confluence with Little Uwharrie River | None | +793 | Randolph County (Unincorporated Areas), City of Trinity.
| Approximately 1.0 mile upstream of the confluence with Little Uwharrie River | None | +897
Tributary 8A | At the confluence with Little Uwharrie River Tributary 8 | None | +795 | Randolph County (Unincorporated Areas), City of Trinity.
| Approximately 0.6 mile upstream of the confluence with Little Uwharrie River Tributary 8 | None | +886
Long Branch | At the confluence with Cedar Fork Creek | None | +508 | Randolph County (Unincorporated Areas), City of Asheboro.
| Approximately 0.5 mile upstream of Wilson Drive | None | +666
Mill Creek | At the confluence with Uwharrie River | None | +380 | Randolph County (Unincorporated Areas).
| Approximately 390 feet upstream of Lassiter Mill Road (State Road 1107) | None | +400
Nanny Branch | At the confluence with Laniers Creek | None | +445 | Randolph County (Unincorporated Areas).
| Approximately 1,275 feet upstream of the confluence with Laniers Creek | None | +463
Narrows Branch | At the confluence with Uwharrie River | None | +365 | Randolph County (Unincorporated Areas).
| Approximately 0.4 mile upstream of the confluence with Uwharrie River | None | +460
Reed Creek | At the confluence with Little River | None | +603 | Randolph County (Unincorporated Areas).
| Approximately 0.8 mile upstream of Burney Road (State Road 1127) | None | +646
Reedy Creek | At the confluence with Little River | None | +618 | Randolph County (Unincorporated Areas).
| Approximately 1,870 feet upstream of the confluence with Little River | None | +642
Robbins Branch | At the confluence with Hannahs Creek | None | +494 | Randolph County (Unincorporated Areas).
| Approximately 1,345 feet upstream of the confluence with Hannahs Creek | None | +507
Sand Branch | At the confluence with Laniers Creek | None | +441 | Randolph County (Unincorporated Areas).
| Approximately 1,490 feet upstream of the confluence with Laniers Creek | None | +462
Second Creek | At the confluence with Uwharrie River | None | +393 | Randolph County (Unincorporated Areas).
| Approximately 0.8 mile upstream of the confluence with Second Creek Tributary 3 | None | +505
Second Creek:
Tributary 1 | At the confluence with Second Creek | None | +393 | Randolph County (Unincorporated Areas).
| Approximately 0.4 mile upstream of the confluence with Second Creek | None | +407
Tributary 2 | At the confluence with Second Creek | None | +459 | Randolph County (Unincorporated Areas).
| Approximately 0.5 mile upstream of the confluence with Second Creek | None | +476
Tributary 2A | At the confluence with Second Creek Tributary 2 | None | +463 | Randolph County (Unincorporated Areas).
| Approximately 1,900 feet upstream of Salem Church Road (State Road 1304) | None | +483
Tributary 3 | At the confluence with Second Creek | None | +479 | Randolph County (Unincorporated Areas).
| Approximately 1,100 feet upstream of Bombay School Road (State Road 1178) | None | +512
Silver Run Creek | At the confluence with Uwharrie River | None | +391 | Randolph County (Unincorporated Areas).
| Approximately 275 feet upstream of Lassiter Mill Road (State Road 1107) | None | +402
South Fork Jackson Creek | At the confluence with Jackson Creek | None | +506 | Randolph County (Unincorporated Areas).
| Approximately 1.4 miles upstream of the confluence with Jackson Creek | None | +545
South Prong Little River | At the confluence with Little River | None | +678 | Randolph County (Unincorporated Areas).
| Approximately 0.5 mile upstream of the confluence with Little River | None | +685
Taylors Creek | At the confluence with Caraway Creek | None | +414 | Randolph County (Unincorporated Areas).
| Approximately 3.3 miles upstream of Lassiter Mill Road (State Road 1107) | None | +543
Toms Creek | At the confluence with Uwharrie Road | None | +400 | Randolph County (Unincorporated Areas).
| Approximately 1.3 miles upstream of Richey Road (State Road 1306) | None | +501
Two Mile Branch | At the confluence with Second Creek | None | +439 | Randolph County (Unincorporated Areas).
| Approximately 1,990 feet upstream of the confluence with Second Creek | None | +472
Two Mile Creek | At the confluence with Uwharrie River | None | +391 | Randolph County (Unincorporated Areas).
| Approximately 1,970 feet upstream of the confluence with Uwharrie River | None | +398
Uwharrie River | At the Montgomery/Randolph County boundary | None | +363 | Randolph County (Unincoporated Areas), City of Asheboro, Randolph County
| Approximately 130 feet upstream of Old Mendenhall Road (State Road 1616) | None | +791 | City of Trinity.
Uwharrie River:
Tributary 1 | At the confluence with Uwharrie River | None | +367 | Randolph County (Unincorporated Areas).
| Approximately 1,050 feet upstream of the confluence with Uwharrie River | None | +380 |
Tributary 2 | At the confluence with Uwharrie River | None | +384 | Randolph County (Unincorporated Areas).
| Approximately 0.6 mile upstream of the confluence with Uwharrie River | None | +400 |
Tributary 3 | At the confluence with Uwharrie River | None | +385 | Randolph County (Unincorporated Areas).
| Approximately 1,890 feet upstream of the confluence with Uwharrie River | None | +403 |
Tributary 4 | At the confluence with Uwharrie River | None | +445 | Randolph County (Unincorporated Areas).
| Approximately 0.7 mile upstream of the confluence with Uwharrie River | None | +445 |
Tributary 5 | At the confluence with Uwharrie River | None | +445 | Randolph County (Unincorporated Areas).
| Approximately 1,660 feet upstream of Garren Town Road (State Road 1332) | None | +452 |
Tributary 6 | At the confluence with Uwharrie River | None | +461 | Randolph County (Unincorporated Areas).
| Approximately 335 feet upstream of Skeens Mill Road (State Road 1550) | None | +483 |
Tributary 7 | At the confluence with Uwharrie River | None | +517 | Randolph County (Unincorporated Areas).
| Approximately 0.4 mile upstream of Summer Road (State Road 1546) | None | +540 |
Tributary 8 | At the confluence with Uwharrie River | None | +554 | Randolph County (Unincorporated Areas), City of Archdale.
| Approximately 190 feet upstream of Alexandria Drive | None | +663 |
Tributary 8A | At the confluence with Uwharrie River Tributary 8A | None | +636 | Randolph County (Unincorporated Areas), City of Archdale.
| Approximately 0.8 mile upstream of the confluence with Uwharrie River Tributary 8 | None | +665 |
Tributary 9 | At the confluence with Uwharrie River | None | +578 | Randolph County (unincorporated Areas), City of Trinity.
| Approximately 0.9 mile upstream of Red Fox Road | None | +805 |
Tributary 10 | At the confluence with Uwharrie River | None | +668 | City of Trinity.
| Approximately 330 feet upstream of Maple Oak Drive | None | +722
Tributary 11 | At the confluence with Uwharrie River | None | +694 | City of Trinity.
| Approximately 0.7 mile upstream of Mendenhall Road | None | +746
Wagners Branch | At the confluence with Little River | None | +582 | Randolph County (Unincorporated Areas).
| Approximately 290 feet upstream of Borough Avenue | None | +684 |
Walkers Creek | At the confluence with Uwharrie River | None | +373 | Randolph County (Unincorporated Areas).
| Approximately 1,775 feet upstream of the confluence with Uwharrie River | None | +385 |
Wesley Dean Branch | At the confluence with Little River | None | +577 | Randolph County (Unincorporated Areas).
| Approximately 0.8 mile upstream of the confluence with Little River | None | +606 |
West Fork Little River | At the Randoloph/Montgomery County boundary | None | +615 | Randolph County (Unincorporated Areas).
| Approximately 850 feet upstream of Mt. Lebanon Road (State Road 1111) | None | +710 |
West Fork Little:
River Tributary 1 | At the confluence with West Fork Little River | None | +622 | Randolph County (Unincorporated Areas).
| Approximately 0.4 mile upstream of the confluence with West Fork Little River | None | +629 |
River Tributary 2 | At the confluence with West Fork Little River | None | +676 | Randolph County (Unincorporated Areas).
| Approximately 1,620 feet upstream of the confluence with West Fork Little River | None | +692 |
River Tributary 3 | At the confluence with West Fork Little River | None | +694 | Randolph County (Unincorporated Areas).
| Approximately 1,320 feet upstream of the confluence with West Fork Little River | None | +701 |
River Tributary 4 | At the confluence with West Fork Little River | None | +697 | Randolph County (Unincorporated Areas).
| Approximately 1,335 feet upstream of the confluence with West Fork Little River | None | +703 |
River Tributary 5 | At the confluence with West Fork Little River | None | +708 | Randolph County (Unincorporated Areas).
| Approximately 1,010 feet upstream of the confluence with West Fork Little River | None | +710 |
*National Geodetic Vertical Datum.
#Depth in feet above ground.
+North American Verticle Datum.
ADDRESSES
City of Archdale
Maps are available for inspection at the Archdale City Hall, 307 Balfour Drive, Archdale, North Carolina.
Send comments to The Honorable Bert Lance Stone, Mayor of the City of Archdale, P.O. Box 14068, Archdale, North Carolina 27263.
City of Asheboro
Maps are available for inspection at the City of Asheboro Planning and Zoning Department, Asheboro, North Carolina.
Send comments to The Honorable David Jarell, Mayor of the City of Asheboro, P.O. Box 1106, Asheboro, North Carolina 27204.
City of Trinity
Maps are available for inspection at the Trinity City Hall, 6701 NC Highway 62, Trinity, North Carolina.
Send comments to The Honorable Fran Andrews, Mayor of the City of Trinity, P.O. Box 50, Trinity, North Carolina 27370.
Randolph County (Unincorporated Areas):
Maps are available for inspection at the Randolph County Planning and Zoning Department, 725 McDowell Road, Asheboro, North Carolina.
Send comments to Mr. Richard T. Wells, Randolph County Manager, P.O. Box 4728, Asheboro, North Carolina 27204-4728.
Richmond County, North Carolina and Incorporated Areas
Baggetts Creek | At the confluence with Speeds Creek | None | +135 | Richmond County (Unincorporated Areas).
| At U.S. Highway 1 | None | +159 |
Beaver Dam Creek (into Rocky Fork Creek) | At the confluence with Rocky Fork. Creek | None | +238 | Richmond County (Unincorporated Areas).
| Approximately 0.4 mile upstream of Millstone Road (State Road 1487) | None | +315 |
Beaverdam Branch | Approximately 50 feet upstream of the Railroad | +235 | +247 | Richmond County (Unincorporated Areas), City of Hamlet, City of Rockingham.
| Approximately 860 feet upstream of Chalk Road | None | +269 |
Beaverdam Creek (into Big Mountain Creek) | At the confluence with Big Mountain Creek | None | +341 | Richmond County (Unincorporated Areas).
| Approximately 100 feet downstream of Capel Mill Road (State Road 1321) | None | +367 |
Bells Creek | At the confluence with Rocky Fork Creek | None | +270 | Richmond County (Unincorporated Areas).
| Approximately 1,200 feet upstream of Haywood Parker Road (State Road 1441) | None | +320 |
Big Branch | At the confluence with Drowning Creek | None | +302 | Richmond County (Unincorporated Areas).
| Approximately 0.8 mile upstream of the confluence with Drowning Creek | None | +318 |
Big Mountain Creek | At the confluence with Mountain Creek and Little Mountain Creek | None | +246 | Richmond County (Unincorporated Areas).
| Approximately 600 feet upstream of the confluence of Silver Creek | None | +374 |
Big Muddy Creek | At the Richmond/Scotland County boundary | None | +311 | Richmond County (Unincorporated Areas), Town of Hoffman.
| Approximately 1,500 feet upstream of Blues Bridge Road | None | +397 |
Black Branch | At the confluence with Solomans Creek | None | +214 | Richmond County (Unincorporated Areas).
| Approximately 0.5 mile upstream of U.S. Highway 74 | None | +256 |
Bones Fork Creek | At the confluence with Hitchcock Creek | None | +256 | Richmond County (Unincorporated Areas).
| Approximately 1,000 feet upstream of Millstone Road (State Road 1487) | None | +276 |
Bones Fork Creek Tributary 1 | At the confluence with Bones Fork Creek | None | +280 | Richmond County (Unincorporated Areas).
| Approximately 600 feet upstream of Millstone Road (State Road 1487) | None | +280 | Richmond County (Unincorporated Areas).
Buffalo Creek | At the confluence with Little River | None | +201 | Richmond County (Unincorporated Areas).
| Approximately 0.7 mile upstream of Cartledge Creek Road (State Road 1005) | None | +262 |
Buffalo Creek Tributary 1 | At the confluence with Buffalo Creek | None | +224 | Richmond County (Unincorporated Areas).
| Approximately 0.6 mile upstream of the confluence with Buffalo Creek | None | +238 |
Camp Branch | At the confluence with Gum Swamp Creek | None | +256 | Richmond County (Unincorporated Areas).
| Approximately 0.5 mile upstream of Cognac Road (State Road 1605) | None | +302 |
Cartledge Creek | At the confluence with Pee Dee River | None | +152 | Richmond County (Unincorporated Areas).
| Approximately 1,400 feet upstreamof John Webb Road (State Road 1308) | None | +294 |
Cartledge Creek:
Tributary 1 | At the confluence with Cartledge Creek | None | +152 | Richmond County (Unincorporated Areas).
| Approximately 2.0 miles upstream of the confluence with Cartledge Creek | None | +219 |
Tributary 2 | At the confluence with Cartledge Creek | None | +168 | Richmond County (Unincorporated Areas).
| Approximately 0.5 mile upstream of Dockery Road (State Road 1143) | None | +218 |
Cheek Creek | At the confluence with Little River | None | +207 | Richmond County (Unincorporated Areas).
| Approximately 1,800 feet upstream of the confluence with Little River | None | +207 |
Chock Creek | At the confluence with Hitchcock Creek | None | +239 | Richmond County (Unincorporated Areas).
| Approximately 0.5 mile upstream of Gray Woods Road | None | +279 |
Chock Creek:
Tributary 1 | At the confluence with Chock Creek | None | +247 | Richmond County (Unincorporated Areas).
| Approximately 1.0 mile upstream of the confluence with Chock Creek | None | +260 |
Tributary 2 | At the confluence with Chock Creek | None | +263 | Richmond County (Unincorporated Areas).
| Approximately 1.3 miles upstream of Fox Road (State Road 1606) | None | +301 |
Colemans Creek | At the confluence with Mountain Creek | None | +193 | Richmond County (Unincorporated Areas).
| Approximately 1.8 miles upstream of Grassy Island Road (State Road 1148) | None | +271 |
Cox Pond | At the upstream side of the Railroad | None | +274 | Richmond County (Unincorporated Areas), City of Hamlet.
| Approximately 150 feet downstream of McDonald Avenue | None | +296
Crawford Branch | Approximately 1.2 miles downstream of Old Peggy Mill Road (State Road 1610) | None | +260 | Richmond County (Unincorporated Areas).
| Approximately 0.6 mile upstream of Old Peggy Mill Road (State Road 1610) | None | +302
Crooked Creek | At County Line Road (State Road 1803) | None | +244 | Richmond County (Unincorporated Areas).
| Approximately 700 feet downstream of Scholl Shankle Road (State Road 1805) | None | +268
Drowning Creek | At the Richmond/Scotland/Hoke/Moore County boundaries | None | +268 | Richmond County (Unincorporated Areas).
| At the Richmond/Montgomery/Moore County boundary | None | +368
Gum Swamp Creek | At Gum Swamp Road (State Road 1609) | None | +255 | Richmond County (Unincorporated Areas).
| Approximately 0.5 mile upstream of Marston Road (State Road 1001) | None | +329
Hitchcock Creek | At the confluence with Pee Dee River | None | +138 | Richmond County (Unincorporated Areas), City of Rockingham.
| Approximately 0.6 mile upstream of the confluence of Indian Camp Lake | None | +332
Hitchcock Creek:
Tributary 1 | At the confluence with Hitchcock Creek | None | +186 | Richmond County (Unincorporated Areas), City of Rockingham.
| Approximately 250 feet downstream of Richmond Road | None | +235
Tributary 2 | At the confluence with Hitchcock Creek | None | +195 | Richmond County (Unincorporated Areas), City of Rockingham.
| Approximately 30 feet downstream of Richmond Road | None | +251
Tributary 2A | At the confluence with Hitchcock Creek Tributary 2 | None | +195 | Richmond County (Unincorporated Areas), City of Rockingham.
| Approximately 0.5 mile upstream of the confluence with Hitchcock Creek Tributary 2 | None | +267
Tributary 2B | At the confluence with Hitchcock Creek Tributary 2 | None | +241 | City of Rockingham.
| Approximately 50 feet downstream of Richmond Road | None | +249
Tributary 3 | At the confluence with Hitchcock Creek | None | +195 | Richmond County (Unincorporated Areas), City of Rockingham.
| Approximately 1,100 feet upstream of Nicholson Road | None | +220
Tributary 4 | At the confluence with McKinney Lake/Hitchcock Creek | None | +283 | Richmond County (Unincorporated Areas).
| Approximately 0.4 mile upstream of the confluence with McKinney Lake/Hitchcock Creek | None | +290
Indian Camp Lake | At the confluence with Hitchcock Creek | None | +287 | Richmond County (Unincorporated Areas).
| Approximately 1.0 mile upstream of the confluence with Hitchcock Creek | None | +306
Indian Camp Lake Tributary 1 | At the confluence with Indian Camp Lake | None | +296 | Richmond County (Unincorporated Areas).
| Approximately 1.4 miles upstream of the confluence with Indian Camp Lake | None | +349
Jennies Branch | At the confluence with Hitchcock Creek | +155 | +159 | Richmond County (Unincorporated Areas), City of Rockingham.
| Approximately 1,300 feet upstream of Patterson Street | None | +276
Jobs Creek | At the confluence with Little Mountain Creek | None | +375 | Richmond County (Unincorporated Areas).
| Approximately 0.5 mile upstream of U.S. Highway 220 | None | +418
Joes Creek | Approximately 1,700 feet upstream of the confluence of Joes Creek Tributary | None | +224 | Richmond County (Unincorporated Areas).
| Approximately 500 feet upstream of Old Laurinburg Road (State Road 1614) | None | +276
Joes Creek Tributary | At County Line Road (State Road 1802) | None | +261 | Richmond County (Unincorporated Areas).
| Approximately 1.0 mile upstream of County Line Road (State Road 1802) | None | +282
Kinsman Lake | Approximately 1,000 feet upstream of the confluence with South Prong Falling Creek | None | +260 | Richmond County (Unincorporated Areas), City of Hamlet.
| Approximately 0.6 mile upstream of the confluence with South Prong Falling Creek | None | +276
Lightwood Knot Creek | Approximately 1,800 feet downstream of Ghio Road (State Road 1803) | None | +246 | Richmond County (Unincorporated Areas).
| Approximately 0.6 mile upstream of Ghio Road (State Road 1803) | None | +259
Little Hamer Creek | At the confluence with Wolf Branch Creek and Unnamed Tributary of Wolf Branch Creek | None | +237 | Richmond County (Unincorporated Areas).
| At the Richmond/Montgomery County boundary | None | +241
Little Mountain Creek | The confluence with Mountain Creek and Big Mountain Creek | None | +246 | Richmond County (Unincorporated Areas).
| Approximately 3.6 miles upstream of the confluence of Jobs Creek | None | +486
Little River | At the confluence with Pee Dee River | None | +200 | Richmond County (Unincorporated Areas).
| Approximately 1,900 feet upstream of the confluence of Cheek Creek | None | +207
Marks Creek | At the North Carolina/South Carolina State boundary | None | +120 | Richmond County (Unincorporated Areas), City of Hamlet.
| Approximately 2.3 miles upstream of Boyd Lake Road | None | +340
Marks Creek:
Tributary 1 | At the confluence with Marks Creek | None | +193 | Richmond County (Unincorporated Areas).
| Approximately 0.6 mile upstream of the confluence with Marks Creek | None | +210
Tributary 2 | At the confluence with Marks Creek | None | +212 | Richmond County (Unincorporated Areas).
| Approximately 0.8 mile upstream of the confluence with Marks Creek | None | +246
Tributary 3 | At the confluence with Marks Creek | None | +217 | Richmond County (Unincorporated Areas).
| Approximately 1.1 miles upstream of the confluence with Marks Creek | None | +257
Tributary 4 | At the confluence with Marks Creek | None | +221 | Richmond County (Unincorporated Areas).
| Approximately 500 feet upstream of Homeplace Road (State Road 1995) | None | +247
Tributary 5 | At the confluence with Marks Creek | None | +225 | Richmond County (Unincorporated Areas).
| Approximately 0.9 mile upstream of the confluence with Marks Creek | None | +262
Tributary 6 | At the confluence with Marks Creek | None | +228 | Richmond County (Unincorporated Areas).
| Approximately 0.4 mile upstream of NC Highway 177 | None | +244
Tributary 7 | At the confluence with Marks Creek | None | +233 | Richmond County (Unincorporated Areas).
| Approximately 0.4 mile upstream of U.S. Highway 74 | None | +282
Tributary 8 | At the confluence with Marks Creek | None | +242 | Richmond County (Unincorporated Areas).
| Approximately 1.5 miles upstream of the confluence with Marks Creek | None | +263 |
Tributary 9 | At the confluence with Marks Creek | None | +294 | Richmond County (Unincorporated Areas), City of Hamlet.
| Approximately 0.4 mile upstream of Raintree Road | None | +323
Middle Prong Hamer Creek | At the confluence with Little River | None | +201 | Richmond County (Unincorporated Areas).
| At the Richmond/Montgomery County boundary | None | +246
Millstone Creek | At the confluence with Rocky Fork Creek/Millstone Lake | None | +311 | Richmond County (Unincorporated Areas).
| Approximately 0.8 mile upstream of the confluence with Rocky Fork Creek/Millstone Lake | None | +334
Mountain Creek | At the confluence with Pee Dee River | None | +192 | Richmond County (Unincorporated Areas).
| At the confluences of Big Mountain Creek and Little Mountain Creek | None | +246
Naked Creek (into Drowning Creek) | At the confluence with Drowning Creek | None | +313 | Richmond County (Unincorporated Areas).
| At Research Farm Road (State Road 1527) | None | +458
Naked Creek (into Pee Dee River) | At the confluence with Pee Dee River | None | +190 | Richmond County (Unincorporated Areas).
| Approximately 1,100 feet upstream of Parson Lake Road (State Road 1145) | None | +267
North Prong Falling Creek | Approximately 1,200 feet upstream of Long Drive | None | +222 | Richmond County (Unincorporated Areas), City of Rockingham.
| Approximately 1.7 miles upstream of the confluence of North Prong Falling Creek Tributary 1 | None | +295
North Prong Falling Creek Tributary 1 | At the confluence with North Prong Falling Creek | None | +256 | Richmond County (Unincorporated Areas).
| Approximately 0.6 mile upstream of the confluence with North Prong Falling Creek | None | +265
Paradise Creek | At the confluence with Rocky Fork Creek | None | +351 | Richmond County (Unincorporated Areas).
| Approximately 0.4 mile upstream of Fire Tower Road (State Road 1455) | None | +369
Pee Dee River | At the North Carolina/South Carolina State boundary | None | +110 | Richmond County (Unincorporated Areas).
| At the Montgomery/Richmond County boundary | None | +220
Rocky Fork Creek | At the confluence with Ledbetter Lake | None | +238 | Richmond County (Unincorporated Areas).
| Approximately 1.3 miles upstream of O.G. Reynolds Road (State Road 1457) | None | +499
Rocky Branch | At the confluence with Hitchcock Creek | None | +159 | Richmond County (Unincorporated Areas), City of Rockingham.
| Approximately 0.4 mile upstream of Sandhill Road (State Road 1971) | None | +263
Rocky Fork Creek Tributary 1 | At the confluence with Rocky Fork Creek | None | +262 | Richmond County (Unincorporated Areas).
| Approximately 0.8 mile upstream of the confluence with Rocky Fork Creek | None | +288
Silver Creek | At the confluence with Big Mountain Creek | None | +373 | Richmond County (Unincorporated Areas).
| Approximately 0.6 mile upstream of County Line Road (State Road 1153) | None | +397
Solomans Creek | At the confluence with Pee Dee River | None | +132 | Richmond County (Unincorporated Areas).
| Approximately 900 feet upstream of Stokes Road (State Road 1992) | None | +259
South Prong Cartledge Creek | At the confluence with Cartledge Creek | None | +228 | Richmond County (Unincorporated Areas).
| Approximately 1,600 feet upstream of Sandy Ridge Church Road (State Road 1305) | None | +302
South Prong Falling Creek | At the upstream side of the Richmond College Lake Dam | None | +263 | Richmond County (Unincorporated Areas), City of Hamlet.
| Approximately 1,200 feet upstream of Wire Grass Road | None | +297
South Prong Falling Creek Tributary 1 | At the confluence with South Prong Falling Creek/Richmond College Lake | None | +276 | Richmond County (Unincorporated Areas), City of Hamlet.
| Approximately 1,800 feet upstream of the confluence with South Prong Falling Creek/Richmond College Lake | None | +295
Speeds Creek | At the confluence with Solomans Creek | None | +135 | Richmond County (Unincorporated Areas).
| Approximately 0.8 mile upstream of Sandhill Road (State Road 1971) | None | +176
Treeces Branch | At the confluence with Cartledge Creek | None | +184 | Richmond County (Unincorporated Areas).
| Approximately 780 feet upstream of Cartledge Creek Road (State Road 1005) | None | +242
Unnamed Tributary to Wolf Branch Creek | At the confluence with Wolf Branch Creek and Little Hamer Creek | None | +237 | Richmond County (Unincorporated Areas).
| At the Richmond/Montgomery County boundary | None | +245
Watery Branch | At the confluence with Speeds Creek | None | +145 | Richmond County (Unincorporated Areas).
| Approximately 1,900 feet upstream of the confluence with Speeds Creek | None | +165
White Creek Tributary | Approximately 1,000 feet downstream of Osborne Road (State Road 1803) | None | +198 | Richmond County (Unincorporated Areas).
| Approximately 0.5 mile upstream of Osborne Road (State Road 1803) | None | +207
Wolf Branch Creek | At the confluence with Middle Prong Hamer Creek | None | +220 | Richmond County (Unincorporated Areas).
| At the confluence of Little Hamer Creek and Unnamed Tributary of Wolf Branch Creek | None | +237
* National Geodetic Vertical Datum.
# Depth in feet above ground.
+ North American Vertical Datum.
ADDRESSES
City of Hamlet
Maps are available for inspection at the Hamlet City Hall, 201 Main Street, Hamlet, North Carolina.
Send comments to The Honorable Cary Garner, Mayor of the City of Hamlet, P.O. Box 1229, Hamlet, North Carolina 28345.
City of Rockingham
Maps are available for inspection at the Rockingham City Hall, Planning Department, 514 Rockingham Road, Rockingham, North Carolina.
Send comments to The Honorable Eugene B. McLaurin, Mayor of the City of Rockingham, 514 Rockingham Road, Rockingham, North Carolina 28379.
Town of Hoffman
Maps are available for inspection at the Hoffman Town Hall, 2176 Caddell Road, Hoffman, North Carolina.
Send comments to The Honorable Joann Marsh, Mayor of the Town of Hoffman, P.O. Box 40, Hoffman, North Carolina 28347.
Richmond County (Unincorporated Areas)
Maps are available for inspection at the Richmond County Planning Department, 221 South Hancock Street, Rockingham, North Carolina.
Send comments to Mr. Jim Haynes, Richmond County Manager, P.O. Box 504, Rockingham, North Carolina 28380.

(Catalog of Federal Domestic Assistance No. 83.100, “Flood Insurance.”)

Dated: December 22, 2006.
David I. Maurstad,
Director, Mitigation Division, Federal Emergency Management Agency, Department of Homeland Security.

[FR Doc. E6-22524 Filed 1-3-07; 8:45 am]

BILLING CODE 9110-12-P